DEPARTMENT OF COMMERCE

National Oceanic and Atmospheric Administration

[I.D. 103003D]

Marine Mammals; Photography Permit Application No. 1050-1727-00

AGENCY: National Marine Fisheries Service (NMFS), National Oceanic and Atmospheric Administration (NOAA), Commerce.

ACTION: Receipt of application.

SUMMARY: Notice is hereby given that the NOAA Pribilof Islands Restoration Project Office, National Ocean Service, 7600 Sand Point Way, Seattle, WA 98115 [Principal Investigator: John Lindsay] has applied in due form for a permit to take Northern fur seal seals (Callorhinus ursinus) for purposes of commercial/educational photography.

DATES: Written or telefaxed comments must be received on or before January 20, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Northwest Region, NMFS, 7600 Sand Point Way NE, BIN C15700, Bldg. 1, Seattle, WA 98115-0700; phone (206)526-6150; fax (206)526-6426; and,

Alaska Region, NMFS, P.O. Box 21668, Juneau, AK 99802-1668; phone (907)586-7221; fax (907)586-7249.

FOR FURTHER INFORMATION CONTACT: Ruth Johnson or Jennifer Jefferies (301)713-2289.

SUPPLEMENTARY INFORMATION: The subject permit is requested under the authority of section 104(c)(6) of the Marine Mammal Protection Act of 1972, as amended (16 U.S.C. 1361 et seq.), the Regulations Governing the Taking and Importing of Marine Mammals (50 CFR part 216). Section 104(c)(6) provides for photography for educational or commercial purposes involving marine mammals in the wild not listed as endangered or threatened. NMFS is currently working on proposed regulations to implement this provision. However, in the meantime, NMFS has received and is processing this request as a “pilot” application for Level B Harassment of non-listed marine mammals for photographic purposes.

The applicant proposes to take by harassment up to 2000 northern fur seals each year during ground and underwater filming activities. The purpose of the proposed project is to collect high-definition digital media of contemporary norther fur seals on the Pribilof Islands, particularly breeding and territorial behaviors in a natural setting on rookeries and haulout areas for public television documentary series. The documentary series will combine footage of northern fur seals with original research, photographs and other documents about the history of commercial fur sealing on the Pribilofs with emphasis on key historical figures. The action area is the Pribilof Islands, including St. George, St. Paul, Walrus and Otter Islands and Sea Lion Rock. The Permit would expire 2 years after the date of issuance.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile to (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: December 11, 2003.
Stephen L. Leathery,
Chief, Permits, Conservation and Education Division, Office of Protected Resources, National Marine Fisheries Service.

[FR Doc. 03-31227 Filed 12-17-03; 8:45 am]

BILLING CODE 3510-22-S